DEPARTMENT OF THE INTERIOR

Bureau of Indian Affairs

[223A2100DD/AAKC001030/A0A501010.999900]

Land Acquisitions; Central Council of Tlingit and Haida Indian Tribes of Alaska, Alaska

AGENCY: Bureau of Indian Affairs, Interior.

ACTION: Notice.

SUMMARY: The Assistant Secretary—Indian Affairs made a final determination to acquire in trust 787 square feet, more or less, of land known as the Vavalis Parcel located in the City of Juneau, Alaska, (Site) for the Central Council of Tlingit and Haida Indian Tribes, (Tribe) to support tribal self-determination and for other purposes.

DATES: This final determination was made on November 17, 2022.

FOR FURTHER INFORMATION CONTACT: Trina Locke, Acting Director, Office of Trust Services, Bureau of Indian Affairs, MS-4620 MIB, 1849 C Street NW, Washington, DC 20240, trina.locke@bia.gov, (202) 617-0610.

SUPPLEMENTARY INFORMATION: On the date listed in the DATES section of this notice, the Assistant Secretary—Indian Affairs made a final agency determination to acquire the Site, consisting of 787 square feet, more or less, in trust for the Tribe under the authority of the Indian Reorganization Act of June 18, 1934, 25 U.S.C. 5108.

The Assistant Secretary—Indian Affairs, on behalf of the Secretary of the Interior, will immediately acquire title to the Site in the name of the United States of America in trust for Tribe upon fulfillment of all Departmental requirements. The 787 square feet, more or less, are described as follows:

Legal Description

Lot 15, Block 5, U.S. Survey No. 4694, Alaska, Addition to the Townsite of Juneau, Alaska, Juneau Indian Village, as accepted by the Chief, Division of Engineering, for the Director on July 22, 1964, containing 787 square feet. Said lot is further shown on the Retracement and Dependent Resurvey officially filed on Feb. 2, 2012, and on a Record of Survey, Plat No. 2018-40, Juneau Recording District, Alaska.

Authority: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

Bryan Newland,
Assistant Secretary—Indian Affairs.

[FR Doc. 2022-25971 Filed 11-28-22; 8:45 am]

BILLING CODE 4337-15-P